DEPARTMENT OF JUSTICE

[Docket No. ODAG 151]

Notice of Reopening of Comment Period on Federal Advisory Committee Draft Recommendations

AGENCY: Department of Justice.

ACTION: Notice of reopening of comment period.

SUMMARY: This notice announces the reopening of the comment period on the subcommittee draft work products of the National Commission on Forensic Science.

DATES: Electronic comments must be submitted on or before November 21, 2014. The electronic Federal Docket Management System (FDMS) will accept comments until Midnight Eastern Time at the end of that day.

FOR FURTHER INFORMATION CONTACT: Brette Steele, Senior Advisor on Forensic Science and Senior Counsel to the Deputy Attorney General, 950 Pennsylvania Avenue NW., Washington, DC 20530, by email at Brette.L.Steele@usdoj.gov, or by phone at (202) 305-0180.

SUPPLEMENTARY INFORMATION: On October 10, 2014, the Department of Justice published in the Federal Register a Notice announcing the October 28-29, 2014, Federal Advisory Committee Meeting of the National Commission on Forensic Science (79 FR 61340). That Notice also announced that comments on subcommittee draft work products must be submitted on or before October 27, 2014.

In response to public requests, this Notice extends the deadline for submitting comments on subcommittee draft work products until November 21, 2014.

Posting of Public Comments: Draft work products introduced at the October 28-29, Commission meeting are available at http://www.regulations.gov. To ensure proper handling of comments, please reference “Docket No. ODAG 151” on all electronic and written correspondence. The Department encourages all comments on subcommittee work products be submitted electronically through http://www.regulations.gov using the electronic comment form provided on that site. Paper comments that duplicate the electronic submission are not necessary as all comments submitted to http://www.regulations.gov will be posted for public review and are part of the official docket record.

In accordance with the Federal Records Act, please note that all comments received are considered part of the public record, and shall be made available for public inspection online at http://www.regulations.gov. The comments to be posted may include personally identifiable information (such as your name, address, etc.) and confidential business information voluntarily submitted by the commenter.

You are not required to submit personal identifying information in order to comment on this meeting. Nevertheless, if you want to submit personally identifiable information (such as your name, address, etc.) as part of your comment, but do not want it to be made available for public inspection and posted online, you must include the phrase “PERSONALLY IDENTIFIABLE INFORMATION” in the first paragraph of your comment. You must also place all the personally identifiable information you do not want made available for public inspection or posted online in the first paragraph of your comment and identify what information you want redacted.

If you want to submit confidential business information as part of your comment, but do not want it to be made available for public inspection and posted online, you must include the phrase “CONFIDENTIAL BUSINESS INFORMATION” in the first paragraph of your comment. You must also prominently identify confidential business information to be redacted within the comment. If a comment has so much confidential business information that it cannot be effectively redacted, all or part of that comment may not be made available for public inspection or posted online.

Personally identifiable information and confidential business information identified and located as set forth above will be redacted and the comment, in redacted form, will be made available for public inspection and posted on http://www.regulations.gov.

Dated: October 31, 2014.
Brette L. Steele,
Senior Advisor on Forensic Science to the Deputy Attorney General.

[FR Doc. 2014-26403 Filed 11-5-14; 8:45 am]

BILLING CODE 4410-18-P